ENVIRONMENTAL PROTECTION AGENCY

[FRL-8703-6]

Notice of Correction to Notice of Data Availability; Information Concerning the Destruction of Ozone-Depleting Substances in the United States

AGENCY: Environmental Protection Agency (EPA).

ACTION: Notice of Correction.

SUMMARY: On July 17, 2008, the Environmental Protection Agency (EPA) published a notice of data availability (NODA) in the Federal Register (73 FR 41076) regarding information concerning the destruction of ozone-depleting substances (ODSs) in the United States, which inadvertently printed an incorrect docket identification number. This document corrects the error made in the identification of the docket. The correct docket identification number is EPA-HQ-OAR-2006-1030.

DATES: EPA will accept comments on the report through September 15, 2008.

ADDRESSES: Submit your comments, identified by Docket ID No. EPA-HQ-OAR-2006-1030, by one of the following methods:

• Federal eRulemaking Portal: http://www.regulations.gov. Follow the on-line instructions for submitting comments.

• E-mail: a-and-r-Docket@epa.gov.

• Fax comments to (202) 566-9744.

• Mail: Submit comments to U.S. EPA Docket Center, EPA West Room 3334, MC 2822T, 1200 Pennsylvania Avenue, NW., Washington, DC 20460, and Phone: (202) 566-1742.

FOR FURTHER INFORMATION CONTACT: Kirsten Cappel, Office of Atmospheric Programs, Stratospheric Protection Division, Mail Code 6205 J, Environmental Protection Agency, 1200 Pennsylvania Avenue, NW., Washington, DC 20460; telephone number: (202) 343-9556; fax number: (202) 343-2338; e-mail address: cappel.kirsten@epa.gov.

SUPPLEMENTARY INFORMATION: On July 17, 2008, EPA published a NODA in the Federal Register (73 FR 41076) which contained an error in the docket identification number. The correct docket for submitting comments on the NODA concerning the destruction of ozone-depleting substances in the United States is EPA-HQ-OAR-2006-1030. The report that the Agency is seeking comment on can be found in the docket and on the Stratospheric Ozone Protection Program Web site at http://www.epa.gov/ozone/title6/destruction.html.

Dated: August 4, 2008.
Brian McLean,
Director, Office of Atmospheric Programs, Office of Air and Radiation.

[FR Doc. E8-18741 Filed 8-12-08; 8:45 am]

BILLING CODE 6560-50-P